DEPARTMENT OF TRANSPORTATION

National Highway Traffic Safety Administration

[Docket No. NHTSA-2024-0069]

Agency Information Collection Activities; Submission to the Office of Management and Budget for Review and Approval; Request for Comment; Automated Driving Systems 2.0: A Vision for Safety

AGENCY: National Highway Traffic Safety Administration (NHTSA), Department of Transportation (DOT).

ACTION: Notice and request for comments on a revision of a currently approved collection.

SUMMARY: In compliance with the Paperwork Reduction Act of 1995 (PRA), this notice announces that the Information Collection Request (ICR) summarized below will be submitted to the Office of Management and Budget (OMB) for review and approval. The ICR describes the nature of the information collection and its expected burden. This document describes a collection of information for which NHTSA intends to seek OMB extension approval titled “Automated Driving Systems 2.0: A Vision for Safety” and is identified by OMB Control Number 2127-0723, currently approved through February 28, 2025. A Federal Register Notice with a 60-day comment period soliciting comments on the following information collection was published on October 23, 2024. Three comments were received in response to that notice; however, no changes to the information collection tool, methodology, nor burden were made as a result of those comments.

DATES: Comments must be submitted on or before March 24, 2025.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Debbie Sweet, Office of Vehicle Safety Research (NSR-010), (202) 366-7179, National Highway Traffic Safety Administration, W46-317, U.S. Department of Transportation, 1200 New Jersey Avenue SE, Washington, DC 20590. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Automated Driving Systems 2.0: A Vision for Safety

OMB Control Number: 2127-0723

Form Number: None

Type of Request: Revision of a currently approved collection.

Type of Review Requested: Regular.

Length of Approval Requested: Three years from date of approval.

Summary of the Collection of Information: In September 2017, NHTSA published a voluntary guidance document titled, Automated Driving Systems 2.0: A Vision for Safety (ADS 2.0). Recognizing the potential for responsibly developed and deployed Automated Driving Systems (ADSs) to enhance safety and mobility, this document outlines a safety considerations framework to facilitate the safe deployment of ADS-equipped vehicles. ADS 2.0 presents 12 priority safety areas, along with safety goals and approaches that could be used to achieve these goals. Entities engaged in ADS testing and deployment may demonstrate how they address—via industry best practices, their own best practices, or other appropriate methods—the safety elements by publishing a Voluntary Safety Self-Assessment (VSSA). The VSSA is the medium of collection of information for ADS 2.0. NHTSA provides the VSSA Index on the agency's website as a pointer system for entities' VSSAs.

Description of the Need for the Information and Proposed Use of the Information: The VSSA is intended to demonstrate to the public (particularly States and consumers) that entities are: (1) considering the safety aspects of ADSs; (2) communicating and collaborating with DOT; (3) encouraging the self-establishment of industry safety norms for ADSs; and (4) building public trust, acceptance, and confidence through transparent testing and deployment of ADSs. It also allows companies an opportunity to showcase their approach to safety, without needing to reveal proprietary intellectual property.

Entities collecting information and disclosing that information via a Voluntary Safety Self-Assessment have been given the flexibility to disclose the information in a format deemed appropriate for that particular entity. Each entity has selected the layout, presentation, and verbiage structure that best fits its needs and goals.

Members of the public can access the VSSA in order to understand the technology, learn how testing and safety elements are incorporated in the design and function of a system or vehicle, and stay informed about testing and deployments across the country.

State stakeholders have indicated that they would use the information in the VSSA as part of assessing the safety implications of ADSs on their roadways. Some states seeking to establish an application and permitting process for testing and deploying ADSs within their jurisdiction may consider information contained in the VSSA as part of the permit issuance process. The states also use information in the VSSA to communicate with law enforcement and first responders as well as to educate the public.

Other consumer-based stakeholders access the information in the VSSA to gather information to assess risks, inform decisions, educate, and for various other purposes.

60-Day Notice: A Federal Register notice with a 60-day comment period soliciting public comments on the following information collection was published on October 23, 2024 (89 FR 84669). Three comments were received during the open comment period from Alexander Winter, the Insurance Institute for Highway Safety (IIHS), and the National Transportation Safety Board (NTSB).

The comment from Alexander Winter focused on vehicle lighting and did not address any technical or burden-related aspects of this information collection; therefore, it will not be addressed in this discussion.

Eric Teoh, Director of Statistical Services, and David Kid, Ph.D., Senior Research Scientist, from IIHS stated they are “pleased that the National Highway Traffic Safety Administration will continue asking companies developing, testing, and deploying vehicles with automated driving systems to submit voluntary safety self-assessments” and further submitted a detailed comment. However, IIHS believes that the current VSSA structure “does not ask entities to describe a plan for collecting and sharing information to support independent evaluations of the real-world safety of ADS that could validate or contradict safety claims.” The authors further detail efforts in California to report crashes, the NHTSA-issued Standing General Order (SGO) that contains reporting requirements for ADS-equipped vehicles and offers recommendations to both NHTSA and ADS entities that they believe will improve the data quality in the SGO database. The recommendation from IIHS for the VSSA is that NHTSA should stipulate that entities “describe how and where they will make crash and exposure data publicly available, independent of the reporting required by California, the NHTSA SGO, and future collection efforts.”

NHTSA appreciates the thoroughness with which IIHS has accessed and analyzed currently available data for ADS-equipped vehicles, as well as the consideration of data gaps that could potentially enhance both data quality and the ability to analyze safety information associated with ADS-equipped vehicles. As NHTSA develops further programs and policies regarding ADS, this information will serve as a valuable resource for understanding public needs. The current VSSA content structure is based on the safety areas outlined in the ADS 2.0 voluntary guidance document published in 2017. This renewal request pertains to the continuation of previously approved information collection recommended in that document. The scope of this ICR action does not cover potential revisions to the ADS 2.0 guidance, so the VSSA contents remain unchanged. The IIHS comments did not address burden estimations, so no changes were made to the information collection tool, methodology, or burden estimates.

NTSB Chair Jennifer Homendy submitted a comment “support[ing] the agency's intent to continue collecting VSSA documents.” However, Chair Homendy further stated that “simply extending the collection period is insufficient.” NTSB has no objections to extending the period for collection the VSSA while also highlighting the limitations of the ADS 2.0 guidance and points to the NTSB recommendations to alleviate those limitations. The recommendations include requiring the VSSA rather than a voluntary submission and that NHTSA establish a process for ongoing evaluation of the VSSAs.

As stated in response to the IIHS comments, the approved information collection for which NHTSA is requesting extension is based on the safety elements outlined in the ADS 2.0 document published in 2017. This guidance document upholds a voluntary approach for publishing VSSAs. As also noted previously, the purpose of the ICR renewal action is to extend the approval of the existing information collection, and its scope does not encompass potential revisions to the ADS 2.0 guidance. NHTSA appreciates Chair Homendy's comments reiterating the open NTSB recommendations ¹ to NHTSA related to this topic and will continue to engage with NTSB regarding agency's activities concerning recommendations H-19-47 and H-19-48. NHTSA believes that VSSA structure offers a framework for entities to communicate with the public and individual states about how they are addressing the safety aspects of ADS, promoting transparency, and fostering greater public confidence in ADS technologies. Therefore, extending the existing information collection approval is beneficial. NHTSA, along with interested stakeholders, continues to research and assess potential approaches for effectively and objectively evaluating the safety performance of ADS-equipped vehicles. The NTSB comments did not address burden estimations for the information collection and therefore no changes were made to the information collection tool, methodology, or burden calculations.

¹ https://www.nhtsa.gov/ntsb-open-recommendations-nhtsa.

Affected Public: Entities involved in the testing and deployment of ADS.

Estimated Number of Respondents: 4.

Frequency: Once.

Estimated Number of Responses: 4.

Estimated Total Annual Burden Hours: 2,400 hours.

Estimating Respondents for this Information Collection: This revision of a currently approved collection includes changes in the annual respondents and thus a decrease in the annual burden hours to the public. The changes are based on observations of the current and past information collections.

NHTSA has combined multiple public lists of ADS entities to determine the potential universe of potential entities that may (past or future) develop a VSSA. Accessed on October 3, 2024, NHTSA combined entities that were listed on the current VSSA Index, the California Department of Motor Vehicle Autonomous Vehicles list of permit holders (testing with a driver, driverless testing, and deployment), and the entities that have submitted ADS incident reports through the Standing General Order. Staff then reviewed the list to determine which entities were no longer operational in the United States. This provided a universe as well as a grounding in the size of the industry, which entities have developed a VSSA in years past, and whether newer entrants are present in the universe such that they may develop a VSSA. The result of these steps was 59 ADS entities.

Of the 59 entities, 27 have developed and made public a VSSA since the collections began according to the VSSA Index. NHTSA is not aware that any of the 27 have updated the full VSSA during that time period. Two of those entities have released an appendix with separate information not included in ADS 2.0. NHTSA assumes these entities will not update their VSSA in the next three years. Table 1 provides a list of VSSA publication date since 2017. The average over the lifetime of ADS 2.0 is three VSSAs per year. Perhaps more reflective of the recent industry, the average over the current collection (three years) is 4 VSSAs per year.

Table 1—VSSA Dissemination to Date
Release | Number
Web page Only (no structured VSSA) | 2
Inactive pointer location | 4
2018 | 1
2019 | 1
2020 | 3
2021 | 4
2022 | 2
2023 | 6
2024 | 4
Seven-year average | 3
Three-year Average (period of current ICR) | 4

Taking into account the universe established (59 entities) and those that have disseminated a VSSA or suggested a web page through the VSSA Index (27), NHTSA believes there is a potential for another 32 entities to publish a VSSA; however, the maturity of the entity itself, the development of the ADS, and the partnerships established within the industry, NHTSA does not assume all 32 will develop a VSSA over the coming three years. This is bolstered by the fact that it has taken seven years for dissemination of 27 VSSAs.

NHTSA will use the most recent three-year average of four VSSAs per year for an estimation of VSSA dissemination or publication for the duration of this information collection revision. Therefore, the number of respondents annually is four and the frequency is once per year.

Estimating Burden for Each Respondent: Components of the Voluntary Guidance in ADS 2.0 and public disclosure of the VSSA have not changed since release in 2017. Therefore, these estimates of time to summarize how an entity is addressing the safety elements remains the same as the current information collection. NHTSA has not received comments that these estimates are erroneous.

Development of a VSSA is expected to involve burden for format, content, and summary, varying by safety element. NHTSA estimates that each entity will spend approximately 600 hours to develop and disseminate a VSSA. Table 2 provides a breakdown of burden hours by safety element.

Table 2—Burden Hours Estimates for VSSA, per Safety Element
Safety element in voluntary guidance | Burden hours for VSSA development
A. System Safety | 30
B. Operational Design Domain | 25
C. Object and Event Detection and Response | 45
D. Fallback | 90
E. Validation Methods | 90
F. Human Machine Interface | 25
G. Vehicle Cybersecurity | 25
H. Crashworthiness | 25
I. Post-Crash ADS Behavior | 25
J. Data Recording | 90
K. Consumer Education and Training | 45
L. Federal, State, and Local Laws | 85
Total Burden Hours Per ADS | 600

Table 3—Calculation of Annual Burden Hours
Estimated Annual Respondents | 4.
Estimated Burden Hours for Voluntary Assessment Dissemination | 600 hours.
Total Estimated Burden Hours for Industry per Year | 2,400 hours.

The change reflected in this revision is a reduction of 9,600 burden hours annually.

Estimated Total Annual Burden Cost: $282,384 labor costs; no additional burden cost.

NHTSA estimates the hourly cost associated with preparing VSSAs to be $117.66 ² per hour using the Bureau of Labor Statistics' mean hourly wage estimate for architectural and engineering managers in the motor vehicle manufacturing industry (Standard Occupational Classification # 11-9041). Therefore, the estimated annual burden to each respondent is $70,596 (600 hours × $117.66). Therefore, the annual estimated labor costs to all respondents to this collection is $282,384. This reflects a decrease of $885,936 for labor costs annually.

² The hourly wage is estimated to be $82.83 per hour. National Industry-Specific Occupational Employment and Wage Estimates NAICS 336100—Motor Vehicle Manufacturing, May 2023, https://www.bls.gov/oes/current/naics4_336100.htm, last accessed October 9, 2024. The Bureau of Labor Statistics estimates that wages represent 70.2 percent of total compensation to private workers, on average. Therefore, NHTSA estimates the total hourly compensation cost to be $117.66.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29A.

Cem Hatipoglu,
Associate Administrator, Office of Vehicle Safety Research.

[FR Doc. 2025-02844 Filed 2-19-25; 8:45 am]

BILLING CODE 4910-59-P